DEPARTMENT OF HEALTH AND HUMAN SERVICES

Substance Abuse and Mental Health Services Administration

Privacy Act of 1974: New System of Records

AGENCY: Substance Abuse and Mental Health Services Administration, DHHS.

ACTION: Notification of a new system of records subject to the Privacy Act of 1974.

SUMMARY: In accordance with the requirements of the Privacy Act, the Substance Abuse and Mental Health Services Administration (SAMHSA) is publishing a notice of the establishment of a new system of records, SAMHSA Information Mailing System (SIMS). The new system will collect limited data from individuals accessing the SAMHSA website for the purpose of requesting current and future SAMHSA publications. Data will include personal information, such as name, phone number (home phone number may be provided), address (home address may be provided), title, level of education, topics/areas of interest related to SAMHSA programs, occupation, type of organization in which employed, and ethnic group.

DATES: SAMHSA invites interested persons to submit comments on the proposed new system on or before April 24, 2001.

SAMHSA will adopt this new system without further notice on April 24, 2001 unless comments are received that would result in a contrary determination.

ADDRESSES: Please address comments to the SAMHSA Privacy Act Officer, Office of Program Services, Room 13C-20, Parklawn Building, Substance Abuse and Mental Health Services Administration, 5600 Fishers Lane, Rockville, Maryland 20857. We will make comments available for public inspection at the above address during normal business hours, 8:30 a.m.-5 p.m.

FOR FURTHER INFORMATION CONTACT: Director, Office of Communications, Office of the Administrator/SAMHSA, Room 13C-05, Parklawn Building, 5600 Fishers Lane, Rockville, Maryland 20857 (301)-443-8956.

Dated: March 19, 2001.
Richard Kopanda,
Director, Office of Program Services, Substance Abuse and Mental Health Services Administration.

09-30-0051

System Name:

SAMHSA Information Mailing System (SIMS).

System Classification:

None.

System Location:

This system of records is maintained by the Office of Communications, 5600 Fishers Lane, Rockville, Maryland 20857. The system of records will also be maintained at the site of the contractor managing SAMHSA's National Clearinghouse on Alcohol and Drug Abuse. Additional information about that contractor site is available by writing to the System Manager at the address below.

Categories of Individuals Covered by the System:

The individuals listed in the system are individuals who voluntarily request publications and other information from the SAMHSA Website.

Categories of Individuals Covered by the System:

The individuals listed in the system are individuals who voluntarily request publications and other information from the SAMHSA Website.

Categories of Records in the System:

Request forms for SAMHSA publications include categories for personal information, such as name, phone number (home phone number may be provided), address (home address may be provided), title, level of education, topics/areas of interest related to SAMHSA programs, occupation, type of organization in which employed, and ethnic group.

Authority for Maintenance of the System:

Pub. L. 102-321 (“ADAMHA Reorganization Act”), sec. 501 on July 10, 1992, as amended by Pub. L. 106-310

Purpose(s):

To establish a mailing list of States, political subdivisions, educational agencies and institutions, treatment providers, organizations, and individuals to provide SAMHSA publications and other print materials identified as of interest to them. In addition, it is used to provide them information about new and upcoming publications.

Routine Uses of Records Maintained in the System, Including Categories of users and the Purposes of Such Use:

1. Disclosure may be made to a member of Congress or to a congressional staff member in response to a request for assistance from the Member by the individual of record.

2. The Department of Health and Human Services (HHS) may disclose information from this system of records to the Department of Justice, or to a court or other tribunal, when (a) HHS, or any component thereof; or (b) any HHS employee in his or her official capacity; or (c) any HHS employee in his or her individual capacity where the Department of Justice (or HHS, where it is authorized to do so) has agreed to represent the employee; or (d) the United States or any agency thereof where HHS determines that the litigation is likely to affect HHS or any of its components, is a party to litigation, and HHS determines that the use of such records by the Department of Justice, court or other tribunal is relevant and necessary to the litigation and would help in the effective representation of the governmental party, provided, however, that in each case HHS determines that such disclosure is compatible with the purpose for which the records were collected.

3. SAMHSA intends to disclose information from this system to an expert, consultant, or contractor (including employees of the contractor) of SAMHSA only if necessary to further the implementation and operation of this program.

Policies and Practices for Storing, Retrieving, Accessing, Retaining, and Disposing of Records in the System:

Storage:

Information may be collected on paper or electronically and may be stored as paper forms or on computers.

Retrievability:

The records are retrieved by name; they may be sorted by topic of interest, State, organizational affiliation in order to direct information of relevance to them.

Safeguards:

—Authorized users: Only SAMHSA personnel working on this project and personnel employed by SAMHSA contractors to work on this project are authorized users as designated by the system manager.

—Physical Safeguards: Physical paper records are stored in lockable metal file cabinets or security rooms.

—Procedural Safeguards: Contractors who maintain records in this system are instructed to make no further disclosure of the records, except as authorized by the system manager and permitted by the Privacy Act. Privacy Act requirements are specifically included in contracts.

—Technical Safeguards: Electronic records are protected by use of passwords.

—Implementation Guidelines: HHS Chapter 45-13 of the General Administration Manual, “Safeguarding Records Contained in Systems of Records and the HHS Automated Information Systems Security Program Handbook, Information Resources Management Manual.”

Retention and Disposal:

Disposition of records is according to the National Archives and Records Administration (NARA) guidelines, as set forth in the SAMHSA Records Control Schedule, Appendix B-311 (NCI-90-76-5) Item 3.

System Manager(s) and Address:

Director, Office of Communications, Office of the Administrator, Substance Abuse and Mental Health Services Administration, 5600 Fishers Lane, Rockville, Maryland 20857.

Notification Procedure:

Individuals may submit a request with a notarized signature on whether the system contains records about them to the above system manager.

Record Access Procedures:

Individuals have direct access to their personal record on the SIMS system, via the Internet, utilizing a discrete password of their own selection. Should this not be feasible or desired, and, in all other cases, requests from individuals for access to their records should be addressed to the system manager. Requesters should also reasonably specify the record contents being sought. Individuals may also request an accounting of disclosures of their records, if any.

Contesting Record Procedures:

Contact the official at the address specified under Notification Procedures above and reasonably identify the record, specify the information being contested, and state the corrective action sought, with supporting information to show how the record is inaccurate, incomplete, untimely, or irrelevant.

Record Source Categories:

Information is provided by individuals, among others, who request SAMHSA publications. Furnishing of the information is voluntary.

Systems Exempted From Certain Provisions of the Act:

None.

[FR Doc. 01-7844 Filed 3-29-01; 8:45 am]

BILLING CODE 4162-20-M